Proclamation 9797 of September 28, 2018

Child Health Day, 2018

By the President of the United States of America

A Proclamation

On Child Health Day, we renew our commitment to ensuring the health and well-being of our young people, who are the future of our great country. All children deserve to grow up in loving homes with parents or guardians who are dedicated to empowering them to live healthy, safe, and successful lives.

My Administration is actively working to create environments in which families can grow stronger and children can realize their full potential. Earlier this year, I signed into law a 5-year authorization of the Maternal, Infant, and Early Childhood Home Visiting Program, which helps at-risk families get off to a better and healthier start with evidence-based home visiting programs. Home visiting programs help prevent child abuse and neglect, support positive parenting, improve maternal and child health, and promote child development and school readiness. Additionally, through the Be Best initiative, led by First Lady Melania Trump, we are helping to address some of the most prevalent challenges facing children, including destructive online habits, bullying, mental health, and alcohol and drug abuse. Further, we are strengthening our public health and safety response to the opioid crisis. One of the many tragic consequences of opioid addiction is neonatal abstinence syndrome, which poses risks to the long-term health of children.

Across our country, more than 15,000 children are diagnosed with pediatric cancer each year. Survival rates for most childhood cancers have improved in recent decades, but serious challenges remain. Children who survive cancer frequently struggle with significant complications later in life. For this reason, I signed into law the Childhood Cancer Survivorship, Treatment, Access, and Research Act of 2018, which will provide more funding to research childhood cancers, explore effective treatments, and help enhance the quality of long-term care for children after active treatment and into remission.

Every child, both born and unborn, possesses inherent dignity. Today, let us rededicate ourselves to our shared goal of building a better future for each one of them. As parents and role models, we have a moral responsibility to nurture and care for our most vulnerable population. Together, we can ensure that our children are healthy, and grow up to be happy and productive adults.

The Congress, by a joint resolution approved May 18, 1928, as amended (36 U.S.C. 105), has called for the designation of the first Monday in October as Child Health Day and has requested that the President issue a proclamation in observance of this day.

NOW, THEREFORE, I, DONALD J. TRUMP, President of the United States of America, by virtue of the authority vested in me by the Constitution and the laws of the United States, do hereby proclaim Monday, October 1, 2018, as Child Health Day. I call upon families, child health professionals, faith-based and community organizations, and governments to help ensure that America's children stay safe and healthy.

IN WITNESS WHEREOF, I have hereunto set my hand this twenty-eighth day of September, in the year of our Lord two thousand eighteen, and of the Independence of the United States of America the two hundred and forty-third.

[FR Doc. 2018-21820

Filed 10-3-18; 11:15 am]

Billing code 3295-F9-P